NATIONAL CREDIT UNION ADMINISTRATION

Community Development Revolving Loan Fund Access for Credit Unions; Funding Opportunity

Funding Opportunity Title: Community Development Revolving Loan Fund (CDRLF) Grants.

Catalog of Federal Domestic Assistance (CFDA) Number: 44.002

The National Credit Union Administration (NCUA) is issuing this Notice of Funding Opportunity (NOFO) to announce the availability of technical assistance grants (awards) for low-income designated credit unions (LICUs) through the CDRLF. The CDRLF serves as a source of financial support in the form of loans and technical assistance grants that better enable LICUs to support the communities in which they operate. All grant awards made under this NOFO are subject to funds availability and are at the NCUA's discretion.

Table of Contents

A. Program Description

B. Award Information

C. Eligibility Information

D. Application and Submission Information

E. Application Review Information

F. Federal Award Administration

G. Federal Awarding Agency

H. Grant Terms and Conditions

A. Program Description

The purpose of the CDRLF is to expand access of financial products and services, and increase diversity, equity, and economic inclusion to underserved communities. Through the CDRLF, the NCUA provides financial support in the form of technical assistance grants to LICUs serving predominantly low-income members to modernize, build capacity and extend outreach into underserved communities.

The NCUA will consider requests for various funding initiatives. More detailed information about the purpose of each initiative, amount of funds available, funding priorities, permissible uses of funds, funding limits, deadlines and other pertinent details will be defined in the grant round guidelines. In addition, the NCUA may periodically publish information regarding the CDRLF in Letters to Credit Unions, press releases, and/or on the NCUA website.

1. Funding Initiatives

The Minority Depository Institution (MDI) Mentoring initiative will be available during the fall 2021.

2. Authority and Regulations

i. Authority: 12 U.S.C. 1772c-1, 1756, 1757(5)(D), and (7)(I), 1766, 1782, 1784, 1785 and 1786;

ii. Regulations: The regulation governing the CDRLF is found at 12 CFR part 705. In general, this regulation is used by the NCUA to govern the CDRLF and set forth the program requirements. Additional regulations related to the low-income designation are found at 12 CFR parts 701.34 and 741.204. For the purposes of this NOFO, an “Applicant” is a Participating Credit Union that submits a complete application to the NCUA under the CDRLF. The NCUA encourages Applicants to review the regulations, this NOFO, the grant round guidelines, and other program materials for a complete understanding of the program.

B. Award Information

Approximately $100,000 in awards will be available through this NOFO. The NCUA reserves the right to: (i) Award more or less than the amounts cited above; (ii) fund, in whole or in part, any, all, or none of the applications submitted in response to this NOFO; and (iii) reallocate funds from the amount that is anticipated to be available under this NOFO to other programs, particularly if the NCUA determines that the number of awards made under this NOFO is fewer than projected. General information about the purpose of each funding initiative and the maximum award amount is provided below.

1. Purpose of Funding Initiatives

i. MDI Mentoring: The purpose of the MDI Mentoring initiative is to encourage strong and experienced credit unions to provide guidance to small MDI credit unions to increase their ability to thrive and serve low-income and underserved populations. This grant may be used for eligible expenses associated with facilitating a new mentorship relationship. Funding approval will be based on the Applicant's ability to demonstrate a well-developed plan for the mentoring assistance it would receive from a mentor credit union. Applicants are expected to meet the objectives of this initiative by establishing a mentorship to accomplish the following objectives:

a. Credit union growth and expansion, such as growing the membership or the loan portfolio;

b. Improved management and operations, such as leadership training, developing new policy and procedure documents, or responding to exam or audit findings;

c. Increased credit union capabilities, such as introducing a new program or service or improving credit union systems; and/or

d. Other (Applicants will have opportunity to justify additional projects).

2. Maximum Award Amount

The maximum amount for a CDRLF award is determined by the type of funding initiative. There is no minimum amount for CDRLF awards. The maximum award amount for this initiative is $25,000.

C. Eligibility Information

1. Eligible Applicants

This NOFO is open to credit unions that meet the eligibility requirements defined in 12 CFR part 705. A credit union must have a low-income designation obtained in accordance with 12 CFR 701.34 or 741.204 in order to participate in the CDRLF.

i. Non-Federally Insured Applicants: Each Applicant that is a non-federally insured, state-chartered credit union must submit additional application materials. These additional materials are more fully described in 12 CFR 705.7(b)(3) and in the application.

a. Non-federally insured, state-chartered credit unions must agree to be examined by the NCUA. The specific terms and covenants pertaining to this condition will be provided in the award agreement of the Participating Credit Union.

2. Data Universal Numbering System (DUNS) Number

The Data Universal Numbering System (DUNS) number is a unique nine-character number used to identify your organization. The federal government uses the DUNS number to track how federal money is allocated. Registering for a DUNS number is FREE. Applicants can obtain a DUNS number by visiting the Dun & Bradstreet (D&B) website or calling 1-866-705-5711. The NCUA will not consider an application that does not include a valid DUNS number issued by Dun and Bradstreet (D&B). Such an application will be deemed incomplete and will be declined.

3. Employer Identification Number

Each application must include a valid and current Employer Identification Number (EIN) issued by the U.S. Internal Revenue Service (IRS). The NCUA will not consider an application that does not include a valid and current EIN. Such an application will be deemed incomplete and will be declined. Information on how to obtain an EIN may be found on the IRS's website.

4. System for Award Management

All Applicants are required by federal law to have an active registration with the federal government's System for Award Management (SAM) prior to applying for funding. SAM is a web-based, government-wide application that collects, validates, stores, and disseminates business information about the federal government's trading partners in support of the contract awards, grants, and electronic payment processes. An active SAM account status and CAGE number is required to apply for a CDRLF award. Credit unions that have an existing registration with SAM must recertify and maintain an active status annually. The SAM registration and recertification process is FREE. First-time SAM users can register by following the instructions in the Quick Start Guide for New Registrations. Existing users can recertify or renew their SAM account status by following the instructions in the Quick Start Guide for Renewing Registrations. The NCUA will not consider an applicant that does not have an active SAM status. Such an application will be deemed incomplete and will be declined.

5. Other Eligibility Requirements

i. Financial Viability: Applicants must meet the underwriting standards established by the NCUA, including those pertaining to financial viability, as set forth in the application and defined in 12 CFR 705.7(c).

ii. Compliance with Past Agreements: In evaluating funding requests under this NOFO, the NCUA will consider an Applicant's record of compliance with past agreements. The NCUA, in its sole discretion, will determine whether to consider an application from an Applicant with a past record of noncompliance, including any deobligation (i.e., removal of unused awards) of funds.

a. If an Applicant is in default of a previously executed agreement with the NCUA, the NCUA will not consider an application for funding under this NOFO.

b. If an Applicant is a prior Participating Credit Union under the CDRLF and has unused awards as of the date of application, the NCUA may request a narrative from the Applicant that addresses the reason for its record of noncompliance. The NCUA, in its sole discretion, will determine whether the reason is sufficient to proceed with the review of the application.

D. Application and Submission Information

1. Application

Under this NOFO, all applications must be submitted online in the NCUA's web-based application system, CyberGrants, in order to be considered. Applications must be submitted online at https://www.cybergrants.com/ncua/applications. The application and related documents are also located on the NCUA's website at https://www.ncua.gov/services/Pages/resources-expansion/grants-loans.aspx.

2. Minimum Application Content

At a minimum, each application requires a narrative response that describes the Applicant's proposed use of the CDRLF award. The NCUA reserves the right to waive this requirement for any funding initiatives with a defined list of allowable project activities. The NCUA will identify the funding initiatives that do not require a narrative response in the grant round guidelines. Other application contents will be defined in the grant round guidelines found on NCUA's website.

3. Submission Dates and Times

The NCUA will accept applications beginning October 11, 2021, at 9:00 a.m. eastern time (ET). Applications must be submitted by October 29, 2021, at 11:59 p.m. ET. Late applications will not be considered.

E. Application Review Information

1. Eligibility and Completeness Review

The NCUA will review each application to determine whether it is complete and that the Applicant meets the eligibility requirements described in the regulations, the grant round guidelines, and in this NOFO. An incomplete application or one that does not meet the eligibility requirements will be declined without further consideration.

2. Evaluation Criteria

Each funding initiative, due to its structure and impact, may have varying degrees of evaluation criteria assigned. The evaluation criteria for each funding initiative is fully described in the grant round guidelines.

3. Application Review

The purpose of the application review is to determine whether an application satisfies the criteria set forth for each particular funding initiative. The NCUA will evaluate each application in accordance with the criteria and procedures described in the grant round guidelines. The NCUA reserves the right to contact the Applicant during its review for the purpose of clarifying or confirming information contained in the application. If so contacted, the Applicant must respond within the time specified by the NCUA or the NCUA, in its sole discretion, may decline the application without further consideration.

4. Scoring and Funding Decision

The NCUA will make its funding decision based on a scoring system that establishes a ranking position for each application. The applications will be ranked according to the scoring criteria set forth for each funding initiative in the grant round guidelines.

F. Federal Award Administration

1. NCUA Award Notice

The NCUA will notify each Applicant of its funding decision by email. In addition, the NCUA will announce the successful applications through a press release that includes a list of the Awardees. Applicants that are approved for funding will also receive instructions on how to proceed with the post-award activities.

2. Administrative and National Policy Requirements

i. Award Agreement: The specific terms and conditions will be established in the award agreement each Participating Credit Union must sign prior to formally accepting an award. Each Participating Credit Union under this NOFO must enter into an agreement with the NCUA before the NCUA will disburse the award funds. The agreement includes the terms and conditions of funding, including but not limited to the: (i) Award amount; (ii) grant award details; (iii) roles and responsibilities; (iv) accounting treatment; (v) signature pages; and (vi) reporting requirements.

ii. Failure to Sign Agreement: The NCUA, in its sole discretion, may rescind an award if the Applicant fails to sign and return the agreement or any other requested documentation, within the time specified by the NCUA.

3. Reimbursement Process

Applicants that are approved for funding will be responsible for the complete and timely submission of the post-award activities. This includes, but it is not limited to, signing the award agreement and completing a reimbursement request. Successful Applicants must submit a reimbursement request in order to receive the awarded funds. The reimbursement requirements are different depending on the funding initiative. The NCUA will define the reimbursement requirements for each funding initiative in the post-award guidelines.

The reimbursement request may require, all or a combination of, the following items: (i) Certification of expenses, (ii) project related documentation, (iii) a summary of project accomplishments and outcomes, or (iv) a certification form signed by a credit union official (e.g., CEO, manager, or Board Chairperson) authorized to request the reimbursement and make the certifications. The NCUA, in its sole discretion, may modify these requirements. Additional reimbursement request requirements will be described in the post-award guidelines.

G. Federal Awarding Agency

1. Methods of Contact

Further information can be found at https://www.ncua.gov/services/Pages/resources-expansion/grants-loans.aspx. For questions related to the CDRLF, email the NCUA's Office of Credit Union Resources and Expansion at CUREAPPS@ncua.gov.

2. Information Technology Support

People who have visual or mobility impairments that prevent them from using the NCUA's website should call (703) 518-6610 for guidance (this is not a toll-free number).

H. Grant Terms and Conditions

1. All credit unions are required to certify the following terms and conditions prior to submitting an application:

i. The Applicant is a low-income designated credit union, as defined in Section 701.34 of the NCUA's Rules and Regulations.

ii. The Applicant shall comply with United States Office of Management and Budget, Uniform Administrative Requirements, Cost Principles, and Audit Requirements for Federal Awards.

iii. The Applicants are required to have an audit conducted if they hold $750,000 or more in Federal awards during a fiscal year. Applicants that hold less than $750,000 in Federal awards are exempt from this law.

a. For example, if a credit union uses a $250,000 loan from the NCUA's CDRLF and a $500,000 grant from the Community Development Financial Institutions (CDFI) Fund, totaling $750,000 in Federal awards during the same fiscal year; then the credit union must have an audit conducted.

iv. The Applicant is responsible for the efficient and effective administration of the Federal Award through application of sound management practices. Applicant assumes the responsibility for administering Federal Funds in a manner consistent with underlying agreements, program objectives, and the term and conditions of the Federal Award.

v. No employee, contractor, consultant or vendor has participated substantially for this grant-funded activity, nor otherwise benefited directly or indirectly from the grant, who, to its knowledge (assuming reasonable diligence), has a “covered relationship” with an NCUA employee who presently holds a position that would enable him or her to influence a pending or future grant award, or a reimbursement of permitted expenses thereunder.

vi. An employee, contractor, consultant or vendor of the Applicant would have such a “covered relationship” if he or she were either: (1) A member of the household of an NCUA employee who presently holds a position that would enable him or her to influence a pending or future grant award, or a reimbursement thereunder; or (2) a relative of such an NCUA employee with whom he or she has a close personal relationship. 5 CFR 2635.502(b)(1)(ii).

vii. The Applicant must disclose in writing to the NCUA any potential conflict of interest in accordance with applicable Federal awarding agency policy.

viii. Per 2 CFR 200.113, the Applicant must disclose all violations of Federal criminal law involving fraud, bribery, or gratuity violations potentially affecting the award.

ix. The Applicant conducts its activities such that no person is excluded from participation in, is denied the benefits of, or is subject to discrimination on the basis of race, color, national origin, sex, age or disability in the distribution of services and/or benefits provided under this grant program. The credit union agrees to provide evidence of its compliance as required by the NCUA. Furthermore, credit unions should ensure compliance with Title VI of the Civil Rights Act of 1964.

x. If a credit union enters into commitments for a project before the grant decision is made, credit union will be obligated to pay project expenses from its own funds should the grant not be approved; if the grant is approved the credit union may be responsible for a portion of the expenses due prior to the grant approval date.

xi. Requests to reallocate or change approved project(s) and/or request an extension to the deadline must be submitted in writing prior to the original deadline and approved by the NCUA prior to Applicant incurring expenses.

xii. The Applicant is aware that the NCUA will correspond with the credit union regarding this application by email (utilizing the email provided in this application).

xiii. The Applicant hereby acknowledges that the NCUA reserves full discretion to deny reimbursement under this grant in the event the NCUA determines the Applicant is, or previously was, either in breach of any-condition or limitation in the grant guidelines, or in breach of the `covered relationship' restriction set forth above.

xiv. Information included in Outcome Summary or Success Stories is considered by the NCUA to be Research Data and is governed by 2 CFR 200.315 and may be made publicly available.

xv. The Applicant is aware that any false, fictitious, or fraudulent information or the omission of any material fact, may subject Applicant to criminal, civil or administrative penalties for fraud, false statements, false claims or otherwise. (U.S. Code Title 18, Section 1001 and Title 31, Sections 3729-3730, and 3801-3812).

xvi. The Applicant is aware recipients and subrecipients are prohibited from obligating or expending loan or grant funds to procure or obtain equipment, services, or systems that uses covered telecommunications equipment or services as a substantial or essential component of any system, or as critical technology as part of any system in accordance with Public Law 115-232, section 889 and 2 CFR 200.216.

By the National Credit Union Administration Board on September 3, 2021.
Melane Conyers-Ausbrooks,
Secretary of the Board.

[FR Doc. 2021-19491 Filed 9-8-21; 8:45 am]

BILLING CODE P